DEPARTMENT OF DEFENSE

[OMB Control Number 0704-0286]

Information Collection Requirements; Defense Federal Acquisition Regulation Supplement; Publicizing Contract Actions

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected, and (d) ways to minimize the burden of the information collection on respondents, including the use of automated collection techniques or other forms of information technology. The Office of Management and Budget (OMB) has approved this information collection requirement for use through August 31, 2001. DoD proposes that OMB extend its approval for use through August 31, 2004.

DATES: DoD will consider all comments received by April 16, 2001.

ADDRESSES: E-mailed comments are preferred. Submit comments to: dfars@acq.osd.mil. Please cite OMB Control Number 0704-0286 in the subject line.

Respondents that cannot submit comments by e-mail may submit comments to: Defense Acquisition Regulations Council, Attn: Ms. Melissa Rider, OUSD (AT&L) DP (DAR), IMD 3C132, 3062 Defense Pentagon, Washington, DC 20301-3062; facsimile (703) 602-0350. Please cite OMB Control Number 0704-0286.

FOR FURTHER INFORMATION CONTACT: Ms. Melissa Rider, (703) 602-4245. The information collection requirements addressed in this notice are available electronically via the Internet at: http://www.acq.osd.mil/dp/dars/dfars.html. Paper copies are available from Ms. Melissa Rider, OUSD (AT&L) DP (DAR), IMD 3C132, 3062 Defense Pentagon, Washington, DC 20301-3062.

SUPPLEMENTARY INFORMATION: Title and OMB Number: Defense Federal Acquisition Regulation Supplement (DFARS) Part 205, Publicizing Contract Actions, and DFARS 252.205-7000, Provision of Information to Cooperative Agreement Holders; OMB Control Number 0704-0286.

Needs and Uses: This information collection requires DoD contractors to provide information to cooperative agreement holders regarding employees or offices that are responsible for entering into subcontracts under DoD contracts. Cooperative agreement holders furnish procurement technical assistance to business entities within specified geographic areas. This policy implements 10 U.S.C. 2416.

Affected Public: Businesses of other for-profit and not-for-profit institutions.

Annual Burden Hours: 6,153.

Number of Respondents: 5,594.

Responses Per Respondents: 1.

Annual Responses: 5,594.

Average Burden Per Response: 1.1 hours.

Frequency: On occasion.

Summary of Information Collection

DFARS Subpart 205.4 and the clause at DFARS 252.205-7000 require that DoD contractors awarded contracts exceeding $500,000 provide to cooperative agreement holders, upon their request, a list of those appropriate employees or offices responsible for entering into subcontracts under DoD contracts. The list must include the business address, telephone number, and area of responsibility of each employee or office. The contractor need not provide the list to a particular cooperative agreement holder more frequently than once a year.

Michele P. Peterson,
Executive Editor, Defense Acquisition Regulations Council.

[FR Doc. 01-3744 Filed 2-13-01; 8:45 am]

BILLING CODE 5000-04-M